FEDERAL COMMUNICATIONS COMMISSION

Notice of Sunshine Act Meeting; Open Commission Meeting; Wednesday, May 3, 2006

April 26, 2006.

The Federal Communications Commission will hold an Open Meeting on the subjects listed below on Wednesday, May 3, 2006, which is scheduled to commence at 9:30 a.m. in Room TW-C305, at 445 12th Street, SW., Washington, DC.

Item No. | Bureau | Subject
1 | Office of Engineering and Technology | Title: Communications Assistance for Law Enforcement Act and Broadband Access and Services (ET Docket No. 04-295).
|  | Summary: The Commission will consider a Report and Order and Memorandum Opinion and Order regarding implementation of the Communications Assistance for Law Enforcement Act.
2 | Consumer & Governmental Affairs | Title: Telecommunications Relay Services and Speech-to-Speech Services for Individuals with Hearing and Speech Disabilities (CG Docket No. 03-123).
|  | Summary: The Commission will consider a Declaratory Ruling and Notice of Proposed Rulemaking regarding interoperability of Video Relay Service.
3 | Consumer & Governmental Affairs | Title: Telecommunications Relay Services and Speech-to-Speech Services for Individuals with Hearing and Speech Disabilities (CG Docket No. 03-123).
|  | Summary: The Commission will consider a Further Notice of Proposed Rulemaking to address fraudulent use of the Internet-based forms of Telecommunications Relay Service.
4 | Wireline Competition | Title: Request for Review of the Decision of the Universal Service Administrator by Bishop Perry Middle School, New Orleans, LA et al., Schools and Libraries Universal Service Support Mechanism (WC Docket No. 02-6).
|  | Summary: The Commission will consider an Order addressing requests for review of decisions of the Universal Service Administrator with respect to the Schools and Libraries Universal Service support mechanism.
5 | Wireline Competition | Title: Request for Review of the Decision of the Universal Service Administrator by Lake Grove at Maple Valley, Inc., Lake Grove Schools, Wendall, MA, et al., Schools and Libraries Universal Service Support Mechanism (WC Docket No. 02-6).
|  | Summary: The Commission will consider an Order addressing requests for review of decisions of the Universal Service Administrator with respect to the Schools and Libraries Universal Service support mechanism.

The meeting site is fully accessible to people using wheelchairs or other mobility aids. Meeting agendas and handouts will be provided in accessible formats; sign language interpreters, open captioning, and assistive listening devices will be provided on site. The meeting will be Web cast with open captioning. Request other reasonable accommodations for people with disabilities as early as possible; please allow at least 5 days advance notice. Include a description of the accommodation you will need including as much detail as you can. Also, include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-4166 Filed 4-28-06; 1:24 pm]

BILLING CODE 6712-01-P